DEPARTMENT OF THE TREASURY

Office of Foreign Assets Control

31 CFR Chapter V

Blocked Persons, Specially Designated Nationals, Specially Designated Terrorists, Foreign Terrorist Organizations, and Specially Designated Narcotics Traffickers: Additional Designations of Terrorism-Related Blocked Persons

AGENCY: Office of Foreign Assets Control, Treasury.

ACTION: Amendment of final rule.

SUMMARY: The Treasury Department is amending appendix A to 31 CFR chapter V by adding the names of 45 individuals and 21 entities who are listed on the annex to Executive Order 13224 of September 23, 2001 (Blocking Property and Prohibiting Transactions with Persons Who Commit, Threaten to Commit, or Support Terrorism), or have been designated pursuant to Executive Order 13224 as blocked persons and by amending the notes to the appendices to 31 CFR chapter V to reflect the revisions to appendix A.

DATES: This amendment to the CFR is effective October 24, 2001. With regard to those persons named in its annex, Executive Order 13224 was effective at 12:01 a.m. eastern daylight time on September 24, 2001. The determinations made by the Secretary of State and the Secretary of the Treasury were effective at 8:00 a.m. on October 12, 2001.

FOR FURTHER INFORMATION CONTACT: Office of Foreign Assets Control, Department of the Treasury, Washington, DC 20220, tel.: 202/622-2520.

SUPPLEMENTARY INFORMATION:

Electronic and Facsimile Availability

This document is available as an electronic file on The Federal Bulletin Board the day of publication in the Federal Register. By modem, dial 202/512-1387 and type “/GO FAC,” or call 202/512-1530 for disk or paper copies. This file is available for downloading without charge in ASCII and Adobe Acrobat® readable (*.PDF) formats. For Internet access, the address for use with the World Wide Web (Home Page), Telnet, or FTP protocol is: fedbbs.access.gpo.gov. This document and additional information concerning the programs of the Office of Foreign Assets Control are available for downloading from the Office's Internet Home Page: http://www.treas.gov/ofac, or in fax form through the Office's 24-hour fax-on-demand service: call 202/622-0077 using a fax machine, fax modem, or (within the United States) a touch-tone telephone.

Background

Appendix A to 31 CFR chapter V contains the names of blocked persons, specially designated nationals, specially designated terrorists, foreign terrorist organizations, and specially designated narcotics traffickers designated pursuant to the various economic sanctions programs administered by the Office of Foreign Assets Control (“OFAC”).

On September 23, 2001, President Bush issued Executive Order 13224 (the “Order”) imposing economic sanctions on persons who commit, threaten to commit, or support certain acts of terrorism. In an annex to the Order, President Bush identified 12 individuals and 15 entities whose assets are blocked pursuant to the Order. This final rule adds those individuals and entities, along with additional identifying information, to appendix A.

This final rule also adds to appendix A 8 individuals who, pursuant to subsection 1(b) of the Order, have been determined by the Secretary of State, in consultation with the Secretary of the Treasury and the Attorney General, to have committed, or to pose a significant risk of committing, acts of terrorism that threaten the security of U.S. nationals or the national security, foreign policy, or economy of the United States.

This final rule also adds to appendix A 25 individuals and 6 entities that, pursuant to subsections 1(c) and 1(d) of the Order, have been determined by the Secretary of the Treasury, in consultation with the Secretary of State and the Attorney General: to be owned or controlled by, or to act for or on behalf of, persons listed on the annex to the Order or designated pursuant to subsection 1(b), 1(c), or 1(d)(i) of the Order; to assist in, sponsor, or provide financial, material, or technological support for, or financial or other services to or in support of, acts of terrorism or persons listed on the annex or designated pursuant to the Order; or to be otherwise associated with persons listed on the annex to the Order or designated pursuant to subsection 1(b), 1(c), or (1)(d)(i) of the Order.

All property and interests in property of these listed persons that are in the United States, that come within the United States, or that come within the possession or control of United States persons, including their overseas branches, are blocked. All transactions by U.S. persons or within the United States in property or interests in property of these listed persons are prohibited unless licensed by the Office of Foreign Assets Control or exempted by statute.

OFAC is also amending note 6 to the notes to the appendices to 31 CFR chapter V to reflect the revisions to appendix A.

For those persons named in its annex, Executive Order 13224 was effective at 12:01 a.m. eastern daylight time on September 23, 2001. Designation of other persons blocked pursuant to the Order by the Secretary of State or the Secretary of the Treasury were effective at 8:00 a.m. eastern daylight time on October 12, 2001. Public notice of blocking is effective upon the date of filing with the Federal Register, or upon prior actual notice.

Because this rule involves a foreign affairs function, Executive Order 12866 and the provisions of the Administrative Procedure Act (5 U.S.C. 553), requiring notice of proposed rulemaking, opportunity for public participation, and delay in effective date, are inapplicable. Because no notice of proposed rulemaking is required for this rule, the Regulatory Flexibility Act (5 U.S.C. 601-612) does not apply.

For the reasons set forth in the preamble, and under the authority of 3 U.S.C. 301, 50 U.S.C. 1601-1651, 50 U.S.C. 1701-1706, 22 U.S.C. 287c, and E.O. 13224 of September 23, 2001, the appendices to 31 CFR chapter V are amended as set forth below:

Appendices to Chapter V

1. The notes to the appendices to 31 CFR chapter V are amended by amending note 6 to add the following entry inserted in alphabetical order to read as follows:

Notes: * * *

6. * * *

[SDGT]: Executive Order 13224, 66 FR 49079, September 25, 2001.

* * * * *

Appendix A—[Amended]

2. Appendix A to 31 CFR chapter V is amended by adding the following names inserted in alphabetical order to read as follows:

ABDALLA, Fazul (see MOHAMMED, Fazul Abdullah) (individual) [SDGT].

ABDALLAH, Tarwat Salah (see SHIHATA, Thirwat Salah) (individual) [SDGT].

ABDEL RAHMAN (see ATWAH, Muhsin Musa Matwalli) (individual) [SDGT].

ABDUL RAHMAN (see ATWAH, Muhsin Musa Matwalli) (individual) [SDGT].

ABDULLAH, Abdullah Ahmed (a.k.a. ABU MARIAM; a.k.a. AL-MASRI, Abu Mohamed; a.k.a. SALEH), Afghanistan (DOB 1963; POB Egypt; Citizen Egypt) (individual) [SDGT].

ABDULLAH, Sheikh Taysir (see ATIF, Muhammad) (individual) [SDT] [SDGT].

ABDUREHMAN, Ahmed Mohammed (see ALI, Ahmed Mohammed Hamed) (individual) [SDGT].

ABU ABDALLAH (see AL-IRAQI, Abd al-Hadi) (individual) [SDGT].

ABU FATIMA (see ALI, Ahmed Mohammed Hamed) (individual) [SDGT].

ABU HAFS (see ATIF, Muhammad) (individual) [SDT] [SDGT].

ABU HAFS THE MAURITANIAN (a.k.a. AL-SHANQITI, Khalid; a.k.a. AL-WALID, Mafouz Walad; a.k.a. AL-WALID, Mahfouz Ould; a.k.a. SLAHI, Mahamedou Ould) (DOB 1 Jan 1975) (individual) [SDGT].

ABU ISLAM (see ALI, Ahmed Mohammed Hamed) (individual) [SDGT].

ABU ISMAIL (see UTHMAN, Omar Mahmoud) (individual) [SDGT].

ABU KHADIIJAH (see ALI, Ahmed Mohammed Hamed) (individual) [SDGT].

ABU MARIAM (see ABDULLAH, Abdullah Ahmed) (individual) [SDGT].

ABU OMRAN (see AL-MUGHASSIL, Ahmad Ibrahim) (individual) [SDGT].

ABU SAYYAF GROUP (a.k.a. AL HARAKAT AL ISLAMIYYA) [FTO] [SDGT].

ABU SITTA, Subhi (see ATIF, Muhammad) (individual) [SDT] [SDGT].

ABU UMAR, Abu Omar (see UTHMAN, Omar Mahmoud) [SDGT].

ABU ZUBAIDA (see ABU ZUBAYDAH) (individual) [SDGT].

ABU ZUBAYDAH (a.k.a. ABU ZUBAIDA; a.k.a. AL-WAHAB, Abd Al-Hadi; a.k.a. HUSAIN, Zain Al-Abidin Muhahhad; a.k.a. HUSAYN, Zayn al-Abidin Muhammad; a.k.a. TARIQ) (DOB 12 Mar 1971; POB Riyadh, Saudi Arabia) (individual) [SDGT].

ADBALLAH, Fazul (see MOHAMMED, Fazul Abdullah) (individual) [SDGT].

AGHA, Haji Abdul Manan (a.k.a. SAIYID, Abd Al-Man'am), Pakistan (individual) [SDGT].

AH HAQ, Dr. Amin (see AL-HAQ, Amin) (individual) [SDGT].

AHMAD, Abu Bakr (see GHAILANI, Ahmed Khalfan) (individual) [SDGT].

AHMAD, Mufti Rasheed (see LADEHYANOY, Mufti Rashid Ahmad) (individual) [SDGT].

AHMAD, Mustafa Muhammad (see SAI'ID, Shaykh) (individual) [SDGT].

AHMAD, Tariq Anwar al-Sayyid (a.k.a. FARAG, Hamdi Ahmad; a.k.a. FATHI, Amr Al-Fatih) (DOB 15 Mar 1963; POB Alexandria, Egypt) (individual) [SDGT].

AHMED, A. (see GHAILANI, Ahmed Khalfan) (individual) [SDGT].

AHMED, Abubakar (see GHAILANI, Ahmed Khalfan) (individual) [SDGT].

AHMED, Abubakar K. (see GHAILANI, Ahmed Khalfan) (individual) [SDGT].

AHMED, Abubakar Khalfan (see GHAILANI, Ahmed Khalfan) (individual) [SDGT].

AHMED, Abubakary K. (see GHAILANI, Ahmed Khalfan) (individual) [SDGT].

AHMED, Ahmed (see ALI, Ahmed Mohammed Hamed) (individual) [SDGT].

AHMED, Ahmed Khalfan (see GHAILANI, Ahmed Khalfan) (individual) [SDGT].

AHMED HAMED (see ALI, Ahmed Mohammed Hamed) (individual) [SDGT].

AHMED THE EGYPTIAN (see ALI, Ahmed Mohammed Hamed) (individual) [SDGT].

AHMED THE TALL (see SWEDAN, Sheikh Ahmed Salim) (individual) [SDGT].

“AHMED THE TANZANIAN” (see GHAILANI, Ahmed Khalfan) (individual) [SDGT].

AIADI, Ben Muhammad (see BIN MUHAMMAD, Ayadi Chafiq) (individual) [SDGT].

AIADY, Ben Muhammad (see BIN MUHAMMAD, Ayadi Chafiq) (individual) [SDGT].

AIAI (see AL-ITIHAAD AL-ISLAMIYA) [SDGT].

AISHA, Abu (see MOHAMMED, Fazul Abdullah) (individual) [SDGT].

AL HARAKAT AL ISLAMIYYA (see ABU SAYYAF GROUP) [FTO] [SDGT].

AL MASRI, Abd Al Wakil (see FADHIL, Mustafa Mohamed) (individual) [SDGT].

AL QA'IDA (see AL QAIDA) [SDT] [FTO] [SDGT].

AL QAEDA (see AL QAIDA) [SDT] [FTO] [SDGT].

AL QAIDA (a.k.a. ISLAMIC ARMY; a.k.a. “THE BASE”; a.k.a. AL QA'IDA; a.k.a. AL QAEDA; a.k.a. INTERNATIONAL FRONT FOR FIGHTING JEWS AND CRUSADES; a.k.a. ISLAMIC ARMY FOR THE LIBERATION OF HOLY SITES; a.k.a. ISLAMIC SALVATION FOUNDATION; a.k.a. THE GROUP FOR THE PRESERVATION OF THE HOLY SITES; a.k.a. THE ISLAMIC ARMY FOR THE LIBERATION OF THE HOLY PLACES; a.k.a. THE WORLD ISLAMIC FRONT FOR JIHAD AGAINST JEWS AND CRUSADERS; a.k.a. USAMA BIN LADEN NETWORK; a.k.a. USAMA BIN LADEN ORGANIZATION) [SDT] [FTO] [SDGT].

AL RASHEED TRUST (see AL RASHID TRUST) [SDGT].

AL RASHID TRUST (a.k.a. AL RASHEED TRUST; a.k.a. AL-RASHEED TRUST; a.k.a. AL-RASHID TRUST), Kitab Ghar, 4 Dar-el-Iftah, Nazimabad, Karachi, Pakistan; Jamia Masjid, Sulaiman Park, Begum Pura, Lahore, Pakistan; Office Dha'rb-i-M'unin, opposite Khyber Bank, Abbottabad Road, Mansehra, Pakistan; Office Dha'rb-i-M'unin, Z.R. Brothers, Katchehry Road, Chowk Yadgaar, Peshawar, Pakistan; Office Dha'rb-i-M'unin, Room no. 3, Third Floor, Moti Plaza, near Liaquat Bagh, Murree Road, Rawalpindi, Pakistan; Office Dha'rb-i-M'unin, Top Floor, Dr. Dawa Khan Dental Clinic Surgeon, Main Baxar, Mingora, Swat, Pakistan (Operations in Afghanistan: Herat, Jalalabad, Kabul, Kandahar, Mazar Sharif. Also operations in: Kosovo, Chechnya) [SDGT].

AL SUDANI, Abu Seif (see MOHAMMED, Fazul Abdullah) (individual) [SDGT].

AL TANZANI, Ahmad (see GHAILANI, Ahmed Khalfan) (individual) [SDGT].

AL WAFA (see WAFA HUMANITARIAN ORGANIZATION) [SDGT].

AL WAFA ORGANIZATION (see WAFA HUMANITARIAN ORGANIZATION) [SDGT].

AL ZAWAHIRI, Dr. Ayman (see AL-ZAWAHIRI, Ayman) (individual) [SDT] [SDGT].

AL-'ADIL, Saif (see AL-ADL, Sayf) (individual) [SDGT].

AL-ADL, Sayf (a.k.a. AL-'ADIL, Saif) (DOB 1963; POB Egypt) (individual) [SDGT].

AL-AHDAL, Mohammad Hamdi Sadiq (see AL-HAMATI, Muhammad) (individual) [SDGT].

AL-AMRIKI, Abu-Ahmad (see HIJAZI, Riad) (individual) [SDGT].

AL-FILISTINI, Abu Qatada (see UTHMAN, Omar Mahmoud) (individual) [SDGT].

AL-HAMATI, Muhammad (a.k.a. AL-AHDAL, Mohammad Hamdi Sadiq; a.k.a. AL-MAKKI, Abu Asim), Yemen (individual) [SDGT].

AL-HAMATI SWEETS BAKERIES, Al-Mukallah, Hadhramawt Governorate, Yemen [SDGT].

AL-HAQ, Amin (a.k.a. AMIN, Muhammad; a.k.a. AH HAQ, Dr. Amin; a.k.a. UL-HAQ, Dr. Amin) (DOB 1960; POB Nangahar Province, Afghanistan) (individual) [SDGT].

AL-HAWEN, Abu-Ahmad (see HIJAZI, Riad) (individual) [SDGT].

AL-HOURI, Ali Saed Bin Ali (see EL-HOORIE, Ali Saed Bin Ali) (individual) [SDGT].

AL-IRAQI, Abd al-Hadi (a.k.a. ABU ABDALLAH; a.k.a. AL-IRAQI, Abdal al-Hadi) (individual) [SDGT].

AL-IRAQI, Abdal al-Hadi (see AL-IRAQI, Abd al-Hadi) (individual) [SDGT].

AL-ITIHAAD AL-ISLAMIYA (a.k.a. AIAI) [SDGT].

AL-JADAWI, Saqar (DOB 1965) (individual) [SDGT].

AL-JAMA'AH AL-ISLAMIYAH AL-MUSALLAH (see ARMED ISLAMIC GROUP) [FTO] [SDGT].

AL-JIHAD (a.k.a. EGYPTIAN AL-JIHAD; a.k.a. EGYPTIAN ISLAMIC JIHAD; a.k.a. JIHAD GROUP; a.k.a. NEW JIHAD) [SDT] [FTO] [SDGT].

AL-KADR, Ahmad Sa'id (a.k.a. AL-KANADI, Abu Abd Al-Rahman) (DOB 01 Mar 1948; POB Cairo, Egypt) (individual) [SDGT].

AL-KANADI, Abu Abd Al-Rahman (see AL-KADR, Ahmad Sa'id) (individual) [SDGT].

AL-KINI, Usama (see MSALAM, Fahid Mohammed Ally) (individual) [SDGT].

AL-LIBI, Anas (see AL-LIBY, Anas) (individual) [SDGT].

AL-LIBI, Ibn Al-Shaykh (individual) [SDGT].

AL-LIBY, Anas (a.k.a. AL-LIBI, Anas; a.k.a. AL-RAGHIE, Nazih; a.k.a. AL-RAGHIE, Nazih Abdul Hamed; a.k.a. AL-SABAI, Anas), Afghanistan (DOB 30 Mar 1964; alt. DOB 14 May 1964; POB Tripoli, Libya; Citizen Libya) (individual) [SDGT].

AL-MAGHRIBI, Rashid (see HIJAZI, Riad) (individual) [SDGT].

AL-MAKKI, Abu Asim (see AL-HAMATI, Muhammad) (individual) [SDGT].

AL-MASRI, Abu Hafs (see ATIF, Muhammad) (individual) [SDT] [SDGT].

AL-MASRI, Abu Mohamed (see ABDULLAH, Abdullah Ahmed) (individual) [SDGT].

AL-MASRI, Ahmad (see ALI, Ahmed Mohammed Hamed) (individual) [SDGT].

AL-MUGHASSIL, Ahmad Ibrahim (a.k.a. AL-MUGHASSIL, Ahmed Ibrahim; a.k.a. ABU OMRAN) (DOB 26 Jun 1967; POB Qatif—Bab al Shamal, Saudi Arabia; Citizen Saudi Arabia) (individual) [SDGT].

AL-MUGHASSIL, Ahmed Ibrahim (see AL-MUGHASSIL, Ahmad Ibrahim) (individual) [SDGT].

AL-MUHAJIR, Abdul Rahman (see ATWAH, Muhsin Musa Matwalli) (individual) [SDGT].

AL-NAMER, Mohammed K.A. (see ATWAH, Muhsin Musa Matwalli) (individual) [SDGT].

AL-NASSER, Abdelkarim Hussein Mohamed (POB Al Ihsa, Saudi Arabia; Citizen Saudi Arabia) (individual) [SDGT].

AL-NUBI, Abu (see FADHIL, Mustafa Mohamed) (individual) [SDGT].

AL-NUR HONEY CENTER (see AL-NUR HONEY PRESS SHOPS) [SDGT].

AL-NUR HONEY PRESS SHOPS (a.k.a. AL-NUR HONEY CENTER), Sanaa, Yemen [SDGT].

AL-QADI, Yasin (a.k.a. KADI, Shaykh Yassin Abdullah; a.k.a. KAHDI, Yasin), Jeddah, Saudi Arabia (individual) [SDGT]

AL-RAGHIE, Nazih (see AL-LIBY, Anas) (individual) [SDGT].

AL-RAGHIE, Nazih Abdul Hamed (see AL-LIBY, Anas) (individual) [SDGT].

AL-RASHEED TRUST (see AL RASHID TRUST) [SDGT].

AL-RASHID TRUST (see AL RASHID TRUST) [SDGT].

AL-SABAI, Anas (see AL-LIBY, Anas) (individual) [SDGT].

AL-SHAHID, Abu-Ahmad (see HIJAZI, Riad) (individual) [SDGT].

AL-SHANQITI, Khalid (see ABU HAFS THE MAURITANIAN) (individual) [SDGT].

AL-SHARIF, Sa'd (DOB 1969; POB Saudi Arabia) (individual) [SDGT].

AL-SHIFA' HONEY PRESS FOR INDUSTRY AND COMMERCE, P.O. Box 8089, Al-Hasabah, Sanaa, Yemen; By the Shrine Next to the Gas Station, Jamal Street, Ta'iz, Yemen; Al-rudh Square, Khur Maksar, Aden, Yemen; Al-Nasr Street, Doha, Qatar [SDGT].

AL-SURIR, Abu Islam (see ALI, Ahmed Mohammed Hamed) (individual) [SDGT].

AL-WAHAB, Abd Al-Hadi (see ABU ZUBAYDAH) (individual) [SDGT].

AL-WALID, Mafouz Walad (see ABU HAFS THE MAURITANIAN) (individual) [SDGT].

AL-WALID, Mahfouz Ould (see ABU HAFS THE MAURITANIAN) (individual) [SDGT].

AL-YACOUB, Ibrahim Salih Mohammed (DOB 16 Oct 1966; POB Tarut, Saudi Arabia; Citizen Saudi Arabia) (individual) [SDGT].

AL-ZAWAHIRI, Aiman Muhammad Rabi (see AL-ZAWAHIRI, Ayman) (individual) [SDT] [SDGT].

AL-ZAWAHIRI, Ayman (a.k.a. AL ZAWAHIRI, Dr. Ayman; a.k.a. AL-ZAWAHIRI, Aiman Muhammad Rabi; a.k.a. SALIM, Ahmad Fuad), Operational and Military Leader of JIHAD GROUP (DOB 19 Jun 1951; POB Giza, Egypt; Passport No. 1084010 (Egypt); alt. Passport No. 19820215) (individual) [SDT] [SDGT].

ALI, Ahmed Khalfan (see GHAILANI, Ahmed Khalfan) (individual) [SDGT].

ALI, Ahmed Mohammed (see ALI, Ahmed Mohammed Hamed) (individual) [SDGT].

ALI, Ahmed Mohammed Hamed (a.k.a. ABDUREHMAN, Ahmed Mohammed; a.k.a. ABU FATIMA; a.k.a. ABU ISLAM; a.k.a. ABU KHADIIJAH; a.k.a. AHMED, Ahmed; a.k.a. AHMED HAMED; a.k.a. Ahmed The Egyptian; a.k.a. ALI, Hamed; a.k.a. ALI, Ahmed Mohammed; a.k.a. AL-MASRI, Ahmad; a.k.a. AL-SURIR, Abu Islam; a.k.a. HEMED, Ahmed; a.k.a. SHIEB, Ahmed; a.k.a. SHUAIB), Afghanistan (DOB 1965; POB Egypt; Citizen Egypt) (individual) [SDGT].

ALI, Fadel Abdallah Mohammed (see MOHAMMED, Fazul Abdullah) (individual) [SDGT].

ALI, Hamed (see ALI, Ahmed Mohammed Hamed) (individual) [SDGT].

ALI, Hassan (see FADHIL, Mustafa Mohamed) (individual) [SDGT].

ALI, Salem (see MOHAMMED, Khalid Shaikh) (individual) [SDGT].

ALLY, Ahmed (see SWEDAN, Sheikh Ahmed Salim) (individual) [SDGT].

ALLY, Fahid Mohammed (see MSALAM, Fahid Mohammed Ally) (individual) [SDGT].

AMIN, Muhammad (see AL-HAQ, Amin) (individual) [SDGT].

ANIS, Abu (see FADHIL, Mustafa Mohamed) (individual) [SDGT].

ARMED ISLAMIC GROUP (a.k.a. AL-JAMA'AH AL-ISLAMIYAH AL-MUSALLAH; a.k.a. GIA; a.k.a. GROUPEMENT ISLAMIQUE ARME) [FTO] [SDGT].

ARMY OF MOHAMMED (see JAISH-I-MOHAMMED) [SDGT].

ASBAT AL-ANSAR [SDGT].

ATEF, Muhammad (see ATIF, Muhammad) (individual) [SDT] [SDGT].

ATIF, Mohamed (see ATIF, Muhammad) (individual) [SDT] [SDGT].

ATIF, Muhammad (a.k.a. AL-MASRI, Abu Hafs; a.k.a. ABDULLAH, Sheikh Taysir; a.k.a. ABU HAFS; a.k.a. ABU SITTA, Subhi; a.k.a. ATEF, Muhammad; a.k.a. ATIF, Mohamed; a.k.a. EL KHABIR, Abu Hafs el Masry; a.k.a. TAYSIR) (DOB 1951; alt. DOB 1956 alt. DOB 1944; POB Alexandria, Egypt) (individual) [SDT] [SDGT].

ATWA, Ali (a.k.a. BOUSLIM, Ammar Mansour; a.k.a. SALIM, Hassan Rostom), Lebanon (DOB 1960; POB Lebanon; Citizen Lebanon) (individual) [SDGT].

ATWAH, Muhsin Musa Matwalli (a.k.a. ABDEL RAHMAN; a.k.a. ABDUL RAHMAN; a.k.a. AL-MUHAJIR, Abdul Rahman; a.k.a. AL-NAMER, Mohammed K.A.), Afghanistan (DOB 19 Jun 1964; POB Egypt; Citizen Egypt) (individual) [SDGT].

AYADI CHAFIK, Ben Muhammad (see BIN MUHAMMAD, Ayadi Chafiq) (individual) [SDGT].

AYADI SHAFIQ, Ben Muhammad (see BIN MUHAMMAD, Ayadi Chafiq) (individual) [SDGT].

BAHAMAD (see SWEDAN, Sheikh Ahmed Salim) (individual) [SDGT].

BAHAMAD, Sheik (see SWEDAN, Sheikh Ahmed Salim) (individual) [SDGT].

BAHAMADI, Sheikh (see SWEDAN, Sheikh Ahmed Salim) (individual) [SDGT].

BAKR, Abu (see GHAILANI, Ahmed Khalfan) (individual) [SDGT].

“THE BASE” (see AL QAIDA) [SDT] [FTO] [SDGT].

BIN KHALID, Fahd Bin Adballah (see MOHAMMED, Khalid Shaikh) (individual) [SDGT].

BIN LADEN, Osama (see BIN LADEN, Usama) (individual) [SDT] [SDGT].

BIN LADEN, Usama (a.k.a. BIN LADIN, Usama bin Muhammad bin Awad; a.k.a. BIN LADEN, Osama; a.k.a. BIN LADIN, Osama; a.k.a. BIN LADIN, Osama bin Muhammad bin Awad; a.k.a. BIN LADIN, Usama) (DOB 30 Jul 57; alt. DOB 1958; POB Jeddah, Saudi Arabia; alt. POB Yemen) (individual) [SDT] [SDGT].

BIN LADIN, Osama (see BIN LADEN, Usama) (individual) [SDT] [SDGT].

BIN LADIN, Osama bin Muhammad bin Awad (see BIN LADEN, Usama) (individual) [SDT] [SDGT].

BIN LADIN, Usama (see BIN LADEN, Usama) (individual) [SDT] [SDGT].

BIN LADIN, Usama bin Muhammad bin Awad (see BIN LADEN, Usama) (individual) [SDT] [SDGT].

BIN MARWAN, Bilal (DOB 1947) (individual) [SDGT].

BIN MUHAMMAD, Ayadi Chafiq (a.k.a. AYADI SHAFIQ, Ben Muhammad; a.k.a. AYADI CHAFIK, Ben Muhammad; a.k.a. AIADI, Ben Muhammad; a.k.a. AIADY, Ben Muhammad), Helene Meyer Ring 10-1415-80809, Munich, Germany; 129 Park Road, NW8, London, England; 28 Chaussee de Lille, Mouscron, Belgium; Darvingasse 1/2/58-60, Vienna, Austria; Tunisia (DOB 21 Jan 1963; POB Safais (Sfax), Tunisia) (individual) [SDGT].

BOUSLIM, Ammar Mansour (see ATWA, Ali) (individual) [SDGT].

DARKAZANLI, Mamoun, Uhlenhorster Weg 34 11, Hamburg, 22085 Germany (DOB 4 Aug 1958; POB Aleppo, Syria; Passport No. 1310636262 (Germany)) (individual) [SDGT].

DARKAZANLI COMPANY (see MAMOUN DARKAZANLI IMPORT-EXPORT COMPANY) [SDGT].

DARKAZANLI EXPORT-IMPORT SONDERPOSTEN (see MAMOUN DARKAZANLI IMPORT-EXPORT COMPANY) [SDGT].

EGYPTIAN AL-JIHAD (see AL-JIHAD) [SDT] [FTO] [SDGT].

EGYPTIAN ISLAMIC JIHAD (see AL-JIHAD) [SDT] [FTO] [SDGT].

EL KHABIR, Abu Hafs el Masry (see ATIF, Muhammad) (individual) [SDT] [SDGT].

EL-HOORIE, Ali Saed Bin Ali (a.k.a. AL-HOURI, Ali Saed Bin Ali; a.k.a. EL-HOURI, Ali Saed Bin Ali) (DOB 10 Jul 1965; alt. DOB 11 Jul 1965; POB El Dibabiya, Saudi Arabia; Citizen Saudi Arabia) (individual) [SDGT].

EL-HOURI, Ali Saed Bin Ali (see EL-HOORIE, Ali Saed Bin Ali) (individual) [SDGT].

ELBISHY, Moustafa Ali (see FADHIL, Mustafa Mohamed) (individual) [SDGT].

FADHIL, Mustafa Mohamed (a.k.a. ELBISHY, Moustafa Ali; a.k.a. MOHAMMED, Mustafa; a.k.a. FAZUL, Mustafa; a.k.a. HUSSEIN; a.k.a. ALI, Hassan; a.k.a. FADIL, Mustafa Muhamad; a.k.a. AL MASRI, Abd Al Wakil; a.k.a. ANIS, Abu; a.k.a. YUSSRR, Abu; a.k.a. ALI, Hassan; a.k.a. MAN, Nu; a.k.a. KHALID; a.k.a. JIHAD, Abu; a.k.a. AL-NUBI, Abu) (DOB 23 Jun 1976; POB Cairo, Egypt; Citizen Egypt; alt. Citizen Kenya; Kenyan ID No. 12773667; Serial No. 201735161) (individual) [SDGT].

FADIL, Mustafa Muhamad (see FADHIL, Mustafa Mohamed) (individual) [SDGT].

FARAG, Hamdi Ahmad (see AHMAD, Tariq Anwar al-Sayyid) (individual) [SDGT].

FATHI, Amr Al-Fatih (see AHMAD, Tariq Anwar al-Sayyid) (individual) [SDGT].

FAZUL, Abdalla (see MOHAMMED, Fazul Abdullah) (individual) [SDGT].

FAZUL, Abdallah (see MOHAMMED, Fazul Abdullah) (individual) [SDGT].

FAZUL, Abdallah Mohammed (see MOHAMMED, Fazul Abdullah) (individual) [SDGT].

FAZUL, Haroon (see MOHAMMED, Fazul Abdullah) (individual) [SDGT].

FAZUL, Harun (see MOHAMMED, Fazul Abdullah) (individual) [SDGT].

FAZUL, Mustafa (see FADHIL, Mustafa Mohamed) (individual) [SDGT].

“FOOPIE” (see GHAILANI, Ahmed Khalfan) (individual) [SDGT].

“FUPI” (see GHAILANI, Ahmed Khalfan) (individual) [SDGT].

GARBAYA, Ahmed (see IZZ-AL-DIN, Hasan) (individual) [SDGT].

GHAILANI, Abubakary Khalfan Ahmed (see GHAILANI, Ahmed Khalfan) (individual) [SDGT].

GHAILANI, Ahmed (see GHAILANI, Ahmed Khalfan) (individual) [SDGT].

GHAILANI, Ahmed Khalfan (a.k.a. GHILANI, Ahmad Khalafan; a.k.a. AHMED, Ahmed Khalfan; a.k.a. AHMED, Abubakar K.; a.k.a. AHMED, Abubakary K.; a.k.a. AHMED, Abubakar; a.k.a. AHMAD, Abu Bakr; a.k.a. AHMED, A.; a.k.a. KHALFAN, Ahmed; a.k.a. ALI, Ahmed Khalfan; a.k.a. AHMED, Abubakar Khalfan; a.k.a. GHAILANI, Ahmed; a.k.a. AL TANZANI, Ahmad; a.k.a. KHABAR, Abu; a.k.a. BAKR, Abu; a.k.a. GHAILANI, Abubakary Khalfan Ahmed; a.k.a. HUSSEIN, Mahafudh Abubakar Ahmed Abdallah; a.k.a. MOHAMMED, Shariff Omar; a.k.a. “FOOPIE”; a.k.a. “FUPI”; a.k.a. “AHMED THE TANZANIAN”) (DOB 14 Mar 1974; alt. DOB 13 Apr 1974; alt. DOB 14 Apr 1974; alt. DOB 1 Aug 1970; POB Zanzibar, Tanzania; Citizen Tanzania) (individual) [SDGT].

GHILANI, Ahmad Khalafan (see GHAILANI, Ahmed Khalfan) (individual) [SDGT].

GIA (see ARMED ISLAMIC GROUP) [FTO] [SDGT].

THE GROUP FOR THE PRESERVATION OF THE HOLY SITES (see AL QAIDA) [SDT] [FTO] [SDGT].

GROUPEMENT ISLAMIQUE ARME (see ARMED ISLAMIC GROUP) [FTO] [SDGT].

GSPC (see SALAFIST GROUP FOR CALL AND COMBAT) [SDGT].

HARAKAT UL-ANSAR (see HARAKAT UL-MUJAHIDIN) [FTO] [SDGT].

HARAKAT UL-MUJAHIDEEN (see HARAKAT UL-MUJAHIDIN) [FTO] [SDGT].

HARAKAT UL-MUJAHIDIN (a.k.a. HARAKAT UL-MUJAHIDEEN; a.k.a. HARAKAT UL-ANSAR; a.k.a. HUA; a.k.a. HUM) [FTO] [SDGT].

HAROON (see MOHAMMED, Fazul Abdullah) (individual) [SDGT].

HAROUN, Fadhil (see MOHAMMED, Fazul Abdullah) (individual) [SDGT].

HARUN (see MOHAMMED, Fazul Abdullah) (individual) [SDGT].

HASANAYN, Nasr Fahmi Nasr (see SALAH, Muhammad) (individual) [SDGT].

HEMED, Ahmed (see ALI, Ahmed Mohammed Hamed) (individual) [SDGT].

HENIN, Ashraf Refaat Nabith (see MOHAMMED, Khalid Shaikh) (individual) [SDGT].

HIJAZI, Raed M. (see HIJAZI, Riad) (individual) [SDGT].

HIJAZI, Riad (a.k.a. HIJAZI, Raed M.; a.k.a. AL-HAWEN, Abu-Ahmad; a.k.a. AL-MAGHRIBI, Rashid; a.k.a. AL-AMRIKI, Abu-Ahmad; a.k.a. AL-SHAHID, Abu-Ahmad), Jordan (DOB 1968; POB California, U.S.A.; SSN 548-91-5411) (individual) [SDGT].

HUA (see HARAKAT UL-MUJAHIDIN) [FTO] [SDGT].

HUM (see HARAKAT UL-MUJAHIDIN) [FTO] [SDGT].

HUSAIN, Zain Al-Abidin Muhahhad (see ABU ZUBAYDAH) (individual) [SDGT].

HUSAYN, Zayn al-Abidin Muhammad (see ABU ZUBAYDAH) (individual) [SDGT].

HUSSEIN (see FADHIL, Mustafa Mohamed) (individual) [SDGT].

HUSSEIN, Mahafudh Abubakar Ahmed Abdallah (see GHAILANI, Ahmed Khalfan) (individual) [SDGT].

IMU (see ISLAMIC MOVEMENT OF UZBEKISTAN) [FTO] [SDGT].

INTERNATIONAL FRONT FOR FIGHTING JEWS AND CRUSADES (see AL QAIDA) [SDT] [FTO] [SDGT].

ISLAMIC ARMY (see AL QAIDA) [SDT] [FTO] [SDGT].

THE ISLAMIC ARMY FOR THE LIBERATION OF THE HOLY PLACES (see AL QAIDA) [SDT] [FTO] [SDGT].

ISLAMIC ARMY FOR THE LIBERATION OF HOLY SITES (see AL QAIDA) [SDT] [FTO] [SDGT].

ISLAMIC ARMY OF ADEN [SDGT].

ISLAMIC MOVEMENT OF UZBEKISTAN (a.k.a. IMU) [FTO] [SDGT].

ISLAMIC SALVATION FOUNDATION (see AL QAIDA) [SDT] [FTO] [SDGT].

IZZ-AL-DIN, Hasan (a.k.a. GARBAYA, Ahmed; a.k.a. SA-ID; a.k.a. SALWWAN, Samir), Lebanon (DOB 1963; POB Lebanon; Citizen Lebanon) (individual) [SDGT].

JAISH-I-MOHAMMED (a.k.a. ARMY OF MOHAMMED), Pakistan [SDGT].

JAM'IYAT AL TA'AWUN AL ISLAMIYYA (see JAM'YAH TA'AWUN AL-ISLAMIA) [SDGT].

JAM'YAH TA'AWUN AL-ISLAMIA (a.k.a. JAM'IYAT AL TA'AWUN AL ISLAMIYYA; a.k.a. JIT; a.k.a. SOCIETY OF ISLAMIC COOPERATION), Qandahar City, Afghanistan [SDGT].

JIHAD, Abu (see FADHIL, Mustafa Mohamed) (individual) [SDGT].

JIHAD GROUP (see AL-JIHAD) [SDT] [FTO] [SDGT].

JIT (see JAM'YAH TA'AWUN AL-ISLAMIA) [SDGT].

KADI, Shaykh Yassin Abdullah (see AL-QADI, Yasin) (individual) [SDGT].

KAHDI, Yasin (see AL-QADI, Yasin) (individual) [SDGT].

KHABAR, Abu (see GHAILANI, Ahmed Khalfan) (individual) [SDGT].

KHALFAN, Ahmed (see GHAILANI, Ahmed Khalfan) (individual) [SDGT].

KHALID (see FADHIL, Mustafa Mohamed) (individual) [SDGT].

LADEHYANOY, Mufti Rashid Ahmad (a.k.a. LUDHIANVI, Mufti Rashid Ahmad; a.k.a. AHMAD, Mufti Rasheed; a.k.a. WADEHYANOY, Mufti Rashid Ahmad), Karachi, Pakistan (individual) [SDGT].

LE GROUPE SALAFISTE POUR LA PREDICATION ET LE COMBAT (see SALAFIST GROUP FOR CALL AND COMBAT) [SDGT].

LIBYAN ISLAMIC FIGHTING GROUP [SDGT].

LUDHIANVI, Mufti Rashid Ahmad (see LADEHYANOY, Mufti Rashid Ahmad) (individual) [SDGT].

LUQMAN, Abu (see MOHAMMED, Fazul Abdullah) (individual) [SDGT].

MAKHTAB AL-KHIDAMAT/AL KIFAH, House no. 125, Street 54, Phase II, Hayatabad, Peshawar, Pakistan [SDGT].

MAMOUN DARKAZANLI IMPORT-EXPORT COMPANY (a.k.a. DARKAZANLI COMPANY; a.k.a. DARKAZANLI EXPORT-IMPORT SONDERPOSTEN), Uhlenhorsterweg 34 11, Hamburg, Germany [SDGT].

MAN, Nu (see FADHIL, Mustafa Mohamed) (individual) [SDGT].

MOHAMMED, Fazul (see MOHAMMED, Fazul Abdullah) (individual) [SDGT].

MOHAMMED, Fazul Abdilahi (see MOHAMMED, Fazul Abdullah) (individual) [SDGT].

MOHAMMED, Fazul Abdullah (a.k.a. FAZUL, Abdallah; a.k.a. FAZUL, Abdalla; a.k.a. FAZUL, Abdallah Mohammed; a.k.a. MOHAMMED, Fazul Abdilahi; a.k.a. ADBALLAH, Fazul; a.k.a. ABDALLA, Fazul; a.k.a. MOHAMMED, Fazul; a.k.a. HAROON; a.k.a. HARUN; a.k.a. FAZUL, Haroon; a.k.a. FAZUL, Harun; a.k.a. MUHAMAD, Fadil Abdallah; a.k.a. HAROUN, Fadhil; a.k.a. AL SUDANI, Abu Seif; a.k.a. AISHA, Abu; a.k.a. LUQMAN, Abu; a.k.a. ALI, Fadel Abdallah Mohammed; a.k.a. MOHAMMED, Fouad) (DOB 25 Aug 1972; alt. DOB 25 Dec 1974; alt. DOB 25 Feb 1974; POB Moroni, Comoros Islands; Citizen Comoros; alt. Citizen Kenya) (individual) [SDGT].

MOHAMMED, Fouad (see MOHAMMED, Fazul Abdullah) (individual) [SDGT].

MOHAMMED, Khalid Shaikh (a.k.a. HENIN, Ashraf Refaat Nabith; a.k.a. WADOOD, Khalid Adbul; a.k.a. ALI, Salem; a.k.a. BIN KHALID, Fahd Bin Adballah) (DOB 14 Apr 1965; alt. DOB 01 Mar 1964; POB Kuwait; Citizen Kuwait) (individual) [SDGT].

MOHAMMED, Mustafa (see FADHIL, Mustafa Mohamed) (individual) [SDGT].

MOHAMMED, Shariff Omar (see GHAILANI, Ahmed Khalfan) (individual) [SDGT].

MSALAM, Fahad Ally (see MSALAM, Fahid Mohammed Ally) (individual) [SDGT].

MSALAM, Fahid Mohammed Ali (see MSALAM, Fahid Mohammed Ally) (individual) [SDGT].

MSALAM, Fahid Mohammed Ally (a.k.a. ALLY, Fahid Mohammed; a.k.a. MUSALAAM, Fahid Mohammed Ali; a.k.a. MSALAM, Fahid Mohammed Ali; a.k.a. SALEM, Fahid Muhamad Ali; a.k.a. MSALAM, Mohammed Ally; a.k.a. AL-KINI, Usama; a.k.a. MSALAM, Fahad Ally) (DOB 19 Feb 1976; POB Mombasa, Kenya; Citizen Kenya) (individual) [SDGT].

MSALAM, Mohammed Ally (see MSALAM, Fahid Mohammed Ally) (individual) [SDGT].

MUHAMAD, Fadil Abdallah (see MOHAMMED, Fazul Abdullah) (individual) [SDGT].

MUSALAAM, Fahid Mohammed Ali (see MSALAM, Fahid Mohammed Ally) (individual) [SDGT].

NEW JIHAD (see AL-JIHAD) [SDT] [FTO] [SDGT].

RABITA TRUST, Room 9A, 2nd Floor, Wahdat Road, Education Town, Lahore, Pakistan; Wares Colony, Lahore, Pakistan [SDGT].

SA-ID (see IZZ-AL-DIN, Hasan) (individual) [SDGT].

SAI'ID, Shaykh (a.k.a. AHMAD, Mustafa Muhammad) (POB Egypt) (individual) [SDGT].

SAIYID, Abd Al-Man'am (see AGHA, Haji Abdul Manan) (individual) [SDGT].

SALAFIST GROUP FOR CALL AND COMBAT (a.k.a. GSPC; a.k.a. LE GROUPE SALAFISTE POUR LA PREDICATION ET LE COMBAT) [SDGT].

SALAH, Muhammad (a.k.a. HASANAYN, Nasr Fahmi Nasr) (individual) [SDGT].

SALEH (see ABDULLAH, Abdullah Ahmed) (individual) [SDGT].

SALEM, Fahid Muhamad Ali (see MSALAM, Fahid Mohammed Ally) (individual) [SDGT].

SALIM, Ahmad Fuad (see AL-ZAWAHIRI, Ayman) (individual) [SDT] [SDGT].

SALIM, Hassan Rostom (see ATWA, Ali) (individual) [SDGT].

SALWWAN, Samir (see IZZ-AL-DIN, Hasan) (individual) [SDGT].

SHIEB, Ahmed (see ALI, Ahmed Mohammed Hamed) (individual) [SDGT].

SHIHATA, Thirwat Salah (a.k.a. ABDALLAH, Tarwat Salah; a.k.a. THIRWAT, Salah Shihata; a.k.a. THIRWAT, Shahata) (DOB 29 Jun 60; POB Egypt) (individual) [SDGT].

SHUAIB (see ALI, Ahmed Mohammed Hamed) (individual) [SDGT].

SLAHI, Mahamedou Ould (see ABU HAFS THE MAURITANIAN) (individual) [SDGT].

SOCIETY OF ISLAMIC COOPERATION (see JAM'YAH TA'AWUN AL-ISLAMIA) [SDGT].

SUWEIDAN, Sheikh Ahmad Salem (see SWEDAN, Sheikh Ahmed Salim) (individual) [SDGT].

SWEDAN, Sheikh (see SWEDAN, Sheikh Ahmed Salim) (individual) [SDGT].

SWEDAN, Sheikh Ahmed Salem (see SWEDAN, Sheikh Ahmed Salim) (individual) [SDGT].

SWEDAN, Sheikh Ahmed Salim (a.k.a. SUWEIDAN, Sheikh Ahmad Salem; a.k.a. SWEDAN, Sheikh Ahmed Salem; a.k.a. SWEDAN, Sheikh; a.k.a. BAHAMADI, Sheikh; a.k.a. ALLY, Ahmed; a.k.a. BAHAMAD; a.k.a. BAHAMAD, Sheik; a.k.a. Ahmed the Tall) (DOB 09 Apr 1969; alt. DOB 09 Apr 1960; POB Mombasa, Kenya; Citizen Kenya) (individual) [SDGT].

TAHA, Abdul Rahman S. (see YASIN, Abdul Rahman) (individual) [SDGT].

TAHER, Abdul Rahman S. (see YASIN, Abdul Rahman) (individual) [SDGT].

TAKFIRI, Abu “Umr (see UTHMAN, Omar Mahmoud) (individual) [SDGT].

TARIQ (see ABU ZUBAYDAH) (individual) [SDGT].

TAYSIR (see ATIF, Muhammad) (individual) [SDT] [SDGT].

THIRWAT, Salah Shihata (see SHIHATA, Thirwat Salah) (individual) [SDGT].

THIRWAT, Shahata (see SHIHATA, Thirwat Salah) (individual) [SDGT].

UL-HAQ, Dr. Amin (see AL-HAQ, Amin) (individual) [SDGT].

UMAR, Abu Umar (see UTHMAN, Omar Mahmoud) (individual) [SDGT].

USAMA BIN LADEN NETWORK (see AL QAIDA) [SDT] [FTO] [SDGT].

USAMA BIN LADEN ORGANIZATION (see AL QAIDA) [SDT] [FTO] [SDGT].

UTHMAN, Al-Samman (see UTHMAN, Omar Mahmoud) (individual) [SDGT].

UTHMAN, Omar Mahmoud (a.k.a. ABU ISMAIL; a.k.a. ABU UMAR, Abu Omar; a.k.a. AL-FILISTINI, Abu Qatada; a.k.a. TAKFIRI, Abu ‘Umr; a.k.a. UMAR, Abu Umar; a.k.a. UTHMAN, Al-Samman; a.k.a. UTHMAN, Umar), London, England (DOB 30 Dec 1960; alt. DOB 13 Dec 1960) (individual) [SDGT].

UTHMAN, Umar (see UTHMAN, Omar Mahmoud) (individual) [SDGT].

WADEHYANOY, Mufti Rashid Ahmad (see LADEHYANOY, Mufti Rashid Ahmad) (individual) [SDGT].

WADOOD, Khalid Adbul (see MOHAMMED, Khalid Shaikh) (individual) [SDGT].

WAFA AL-IGATHA AL-ISLAMIA (see WAFA HUMANITARIAN ORGANIZATION) [SDGT].

WAFA HUMANITARIAN ORGANIZATION (a.k.a. AL WAFA; a.k.a. AL WAFA ORGANIZATION; a.k.a. WAFA AL-IGATHA AL&-ISLAMIA) [SDGT].

THE WORLD ISLAMIC FRONT FOR JIHAD AGAINST JEWS AND CRUSADERS (see AL QAIDA) [SDT] [FTO] [SDGT].

YASIN, Abdul Rahman (a.k.a. TAHA, Abdul Rahman S.; a.k.a. TAHER, Abdul Rahman S.; a.k.a. YASIN, Abdul Rahman Said; a.k.a. YASIN, Aboud) (DOB 10 Apr 1960; POB Bloomington, Indiana, U.S.A.; SSN 156-92-9858 (U.S.A.); Passport No. 27082171 (U.S.A. [issued 21 Jun 1992 in Amman, Jordan]); alt. Passport No. M0887925 (Iraq); Citizen U.S.A. (individual) [SDGT].

YASIN, Abdul Rahman Said (see YASIN, Abdul Rahman) (individual) [SDGT].

YASIN, Aboud (see YASIN, Abdul Rahman) (individual) [SDGT].

YULDASHEV, Takhir (see YULDASHEV, Tohir) (individual) [SDGT].

YULDASHEV, Tohir (a.k.a. YULDASHEV, Takhir), Uzbekistan (individual) [SDGT].

YUSSRR, Abu (see FADHIL, Mustafa Mohamed) (individual) [SDGT].

ZIA, Ahmad (see ZIA, Mohammad) (individual) [SDGT].

ZIA, Mohammad, (a.k.a. ZIA, Ahmad) c/o Ahmed Shah s/o Painda Mohammad al-Karim Set, Peshawar, Pakistan; c/o Alam General Store Shop 17, Awami Market, Peshawar, Pakistan; c/o Zahir Shah s/o Murad Khan Ander Sher, Peshawar, Pakistan (individual) [SDGT].

Dated: October 16, 2001.
R. Richard Newcomb,
Director, Office of Foreign Assets Control.

Approved: October 16, 2001.
Jimmy Gurulé,
Under Secretary (Enforcement), Department of the Treasury.

[FR Doc. 01-27076 Filed 10-24-01; 11:31 am]

BILLING CODE 4810-25-P